DEPARTMENT OF AGRICULTURE

Forest Service

Gypsy Moth Management in the United States: A Cooperative Approach

AGENCY: Forest Service, USDA.

ACTION: Revised notice of intent to prepare an environmental impact statement.

SUMMARY: The United States Department of Agriculture, Forest Service and Animal and Plant Health Inspection Service are extending the expected publication dates for the draft and final supplemental environmental impact statement (SEIS) for Gypsy Moth Management in the United States: A Cooperative Approach.

DATES: The draft SEIS is expected to be published in July 2008 and the final SEIS is expected to be published in July 2009.

FOR FURTHER INFORMATION CONTACT: William K. Oldland, Gypsy Moth SEIS Project Entomologist, Forest Service, Northeastern Area, State and Private Forestry, 180 Canfield Street, Morgantown, WV 26505. Telephone number: (304) 285-1585, e-mail: woldland@fs.fed.us. Individuals who use telecommunication devices for the deaf (TDD) may call the Federal Information Relay Service (FIRS) at 1-800-877-8339 between 8 a.m. and 8 p.m., Eastern Time, Monday through Friday.

SUPPLEMENTARY INFORMATION: On April 29, 2004 (69 FR 23492), the Forest Service and the Animal and Plant Health Inspection Service published in the Federal Register a Notice of Intent (NOI) to prepare a Supplement to the Final Environmental Impact Statement (EIS) for Gypsy Moth Management in the United States: A Cooperative Approach. The expected date for publication of the draft (SEIS) was March 2005 and February 2006 for the final SEIS. On February 7, 2007 (72 FR 5675), the agencies published a revised NOI in the Federal Register extending the expected dates for publishing the draft and final SEIS to July 2007 and July 2008 respectively. Through this revised NOI, the agencies are again extending the expected publication dates for the draft and final SEIS.

The SEIS will document an analysis of the 2004 proposal to add the insecticide, tebufenozide (trade name Mimic), to the agencies' list of treatments for the control of gypsy moth. The 2004 proposal also includes developing a process for adding other insecticides that may become available in the future to their list of treatments for control of gypsy moth, if the proposed insecticides are within the range of effects and acceptable risks for the existing list of treatments. The analysis for this proposal builds on the analysis and documentation for the January 16, 1996, Record of Decision for the Gypsy Moth Management in the United States: A Cooperative Approach Final Environmental Impact Statement, which was published in the Federal Register on February 15, 1996 (61 FR 5976). The agencies will prepare a Supplemental Environmental Impact Statement (SEIS) to the November 1995 Final Environmental Impact Statement (EIS), Gypsy Moth Management in the United States: A Cooperative Approach, which was published in the Federal Register on December 1, 1995 (60 FR 61698).

Dared: June 25, 2008.
Robin L. Thompson,
Associate Deputy Chief, State & Private Forestry.

[FR Doc. E8-14963 Filed 7-1-08; 8:45 am]

BILLING CODE 3410-11-P